DEPARTMENT OF TRANSPORTATION

Federal Highway Administration

Annual Materials Report on New Bridge Construction and Bridge Rehabilitation

AGENCY: Federal Highway Administration (FHWA), DOT.

ACTION: Notice; correction.

SUMMARY: This document corrects a typographical error in the FHWA's notice published on August 17, 2006, at 71 FR 47558. The notice announced the availability of a report describing construction materials used in new Federal-aid bridge construction and bridge rehabilitation projects as required by 23 U.S.C. 144(r).

DATES: This action is effective August 24, 2006.

ADDRESSES: The report will be posted on the FHWA Web site at: http://www.fhwa.dot.gov/bridge/britab.htm.

FOR FURTHER INFORMATION CONTACT: Ms. Ann Shemaka, Office of Bridge Technology, HIBT-30, (202) 366-2997, or Mr. Thomas Everett, Office of Bridge Technology, HIBT-30, (202) 366-4675, Federal Highway Administration, 400 Seventh St., SW., Washington, DC 20590. Office hours are from 7:45 a.m. to 4:15 p.m., e.t., Monday through Friday, except Federal holidays.

SUPPLEMENTARY INFORMATION: On August 17, 2006, at 71 FR 47558, the FHWA issued a notice announcing the availability of a report describing construction materials used in new Federal-aid bridge construction and bridge rehabilitation projects as required by 23 U.S.C. 144(r). The address section of that notice inadvertently referenced an incorrect Web address to access the report. The purpose of this notice is to correct the Web address for the Annual Materials Report on New Bridge Construction and Rehabilitation. The correct Web address for the report is: http://www.fhwa.dot.gov/bridge/britab.htm.

(Authority: 23 U.S.C. 144(r); Sec. 1114(f), Pub. L. 109-59, 119 Stat. 1144.)

Issued on: August 21, 2006.
Frederick G. Wright, Jr.,
Federal Highway Executive Director.

[FR Doc. E6-14070 Filed 8-23-06; 8:45 am]

BILLING CODE 4910-22-P